ENVIRONMENTAL PROTECTION AGENCY

[EPA-HQ-OAR-2007-0286; FRL-8302-2]

Agency Information Collection Activities; Proposed Collection; Comment Request; EPA's In-Use Vehicle Testing Programs; EPA ICR No. 0222.08, OMB Control No. 2060-0086

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on September 30, 2007. Before submitting the ICR to OMB for review and approval, EPA is soliciting comments on specific aspects of the proposed information collection as described below.

DATES: Comments must be submitted on or before June 19, 2007.

ADDRESSES: Submit your comments, identified by Docket ID No. EPA-HQ-OAR-2007-0286, by one of the following methods:

• www.regulations.gov: Follow the on-line instructions for submitting comments.

• Fax: (202) 566-1741

• Mail: EPA-HQ-OAR-2007-0286, Environmental Protection Agency, Mailcode: 6102T, Docket1200 Pennsylvania Ave., NW., Washington, DC 20460.

• Hand Delivery: Docket Center, (EPA/DC), EPA West, Room B102, 1301 Constitution Ave., NW., Washington, DC. 20460. Such deliveries are only accepted during the Docket's normal hours of operation, and special arrangements should be made for deliveries of boxed information.

Instructions: Direct your comments to Docket ID No. EPA-HQ-OAR-2007-0286. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Lynn Sohacki, Compliance and Innovative Strategies Division, Office of Transportation and Air Quality, U.S. Environmental Protection Agency, 2000 Traverwood, Ann Arbor, Michigan 48105; telephone number: 734-214-4851; fax number: 734-214-4869; e-mail address: sohacki.lynn@epa.gov.

SUPPLEMENTARY INFORMATION:

How Can I Access the Docket and/or Submit Comments?

EPA has established a public docket for this ICR under Docket ID No. EPA-HQ-OAR-2007-0286, which is available for online viewing at www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are owners of motor vehicles.

Title: EPA's In-Use Vehicle and Engine Testing Programs.

ICR numbers: EPA ICR No. 0222.08, OMB Control No. 2060-0086.

ICR status: This ICR is currently scheduled to expire on September 30, 2007. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has ongoing programs to evaluate the emission performance of in-use light-duty (passenger car and light truck) motor vehicles, heavy-duty trucks, and nonroad vehicles and engines. These are referred to collectively as EPA's in-use vehicle testing programs. They operate in conjunction with testing of prototype vehicles prior to use (manufacturer and EPA confirmatory testing for certification) and the mandatory manufacturer's in-use testing program (IUVP) for light-duty vehicles. They derive from the Clean Air Act's charge that EPA insure that motor vehicles comply with emissions requirements throughout their useful lives. The primary purpose of the program is information gathering. Nevertheless, EPA can require a recall if it receives information, from whatever source, including in-use testing, that a “substantial number” of any class or category of vehicles or engines, although properly maintained and used, do not conform to the emission standards, when in actual use throughout their useful life.

The program has two components: Light-duty, and heavy-duty and nonroad. The light-duty component can be broken down into three closely-related headings. The first is a surveillance program that selects approximately 50 classes of passenger cars and light trucks for in-use testing, at EPA's testing facility, of approximately 150 vehicles (three in each class on average). In rare cases surveillance testing may be followed by compliance testing (only one such class in the last five years).The purpose of a compliance phase is to develop additional information related to test failures observed in a class during surveillance testing. The second heading is testing of a subset of approximately 35 vehicles from the surveillance recruitment for operation of on-board diagnostics (OBD) systems. The third category is special investigations involving testing of vehicles to address specific issues. The number of vehicles procured under this category varies widely from year to year, but this request asks for approval of the information burden corresponding to 25 such vehicles per year for the next three years.

Participation in the light-duty surveys, as well as the vehicle testing, is strictly voluntary. A group of 25 to 50 potential participants is identified from state vehicle registration records. They are asked to return a postcard indicating their willingness to participate and if so, to verify some limited vehicle information. Three of those who return the card are called and asked about a half dozen questions concerning vehicle condition, and operation and maintenance. Additional groups of potential participants may be contacted until a sufficient number of vehicles has been obtained. Owners verify the survey information when they deliver their vehicles to EPA, voluntarily provide maintenance records for copying, and receive a loaner car or a cash incentive.

Procurement and testing are different for the heavy-duty and nonroad in-use testing program. All testing is done by installing “Rover” portable emissions monitoring devices on the vehicle or engine during a period of operation. Heavy-duty trucks, those commonly referred to as over ¾ ton capacity, are usually employed commercially; typically they are part of a fleet of identical (or very similar) vehicles. Consequently, EPA employs a slightly different method to obtain them. Potential owners/lessees can be found in registrations lists; engine manufacturers will also supply identities of their customers. In addition, EPA has a network of entities who have shown a willingness to participate over the years. Once a potential source is identified, EPA will make a brief telephone call to the fleet manager to ascertain if they wish to participate. If the response is positive, EPA's contractors will frequently visit the fleet to install the testing instruments at the company's service facility or government garage. Otherwise, the lessee will be within driving distance of the testing grounds and the devices will be installed there. The procedure for nonroad vehicles and engines (e.g., farm tractors, compressors) is similar; in some cases the vehicle or engine may be rented for the day. Therefore, EPA makes far fewer inquires than with individual owners of light vehicles in the process of procuring an estimated 126 vehicles and engines a year for this program. As with the light-duty component, all participation is strictly voluntary.

Burden Statement: The annual public reporting and recordkeeping burden for this collection of information is estimated to average 0.15 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR Supporting Statement provides a detailed explanation of the Agency's estimate, which is only briefly summarized here:

Estimated total number of potential respondents: Approximately 4,411 owners/lessees receive EPA's solicitations to participate and approximately 336 do participate.

Frequency of response: On Occasion.

Estimated total average number of responses for each respondent: One.

Estimated total annual burden hours: 658.

Estimated total annual costs: $49,320. This includes an estimated burden cost of $49,320 and an estimated cost of $0 for capital investment or maintenance and operational costs.

Are There Changes in the Estimates From the Last Approval?

There is an increase of 58 hours in the total estimated respondent burden compared with that identified in the ICR currently approved by OMB. This increase reflects EPA's updating of burden estimates based upon historical information on the scope of EPA's in-use testing programs and the number of vehicles and engines tested. Note: This ICR was previously titled, “Investigation into Possible Noncompliance of Motor Vehicles”.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: April 16, 2007.
Margo Tsirigotis Oge,
Director, Office of Transportation and Air Quality.

[FR Doc. E7-7542 Filed 4-19-07; 8:45 am]

BILLING CODE 6560-50-P